DEPARTMENT OF ENERGY

Western Area Power Administration

Interconnection of the Proposed Hermosa West Wind Farm Project, Wyoming (DOE/EIS-0438)

AGENCY: Western Area Power Administration, DOE.

ACTION: Notice of Intent To Prepare an Environmental Impact Statement and to Conduct Scoping Meetings; Notice of Floodplain and Wetlands Involvement.

SUMMARY: Shell WindEnergy Inc. (SWE) applied to interconnect their proposed 300-megawatt (MW) Hermosa West Wind Farm Project (Project) with the Western Area Power Administration's (Western) existing Craig—Ault 345-kilovolt (kV) transmission line in Albany County, Wyoming. Western will prepare an environmental impact statement (EIS) on the proposal to interconnect the Project in accordance with the National Environmental Policy Act of 1969 (NEPA), U.S. Department of Energy (DOE) NEPA Implementing Procedures, and the Council on Environmental Quality (CEQ) regulations for implementing NEPA.

Western's need for agency action is precipitated by SWE's application to interconnect with Western's power transmission system. Western needs to consider SWE's interconnection request under its Open Access Transmission Service Tariff (Tariff). This EIS will address Western's Federal action of interconnecting the proposed Project to Western's transmission system, constructing an interconnection facility on Western's existing Craig—Ault transmission line, and making necessary system modifications to accommodate the interconnection. By taking this action, power generated by the proposed Project would use Western's transmission system to reach the market.

Portions of the proposed Project may affect floodplains and wetlands, so this Notice of Intent (NOI) also serves as a notice of proposed floodplain or wetland action in accordance with DOE floodplain and wetland environmental review requirements.

DATES: Public scoping meetings are:

(1) January 26, 2010, from 3 p.m. to 8 p.m. in Cheyenne, Wyoming.

(2) January 27, 2010, from 3 p.m. to 8 p.m. in Laramie, Wyoming.

The public scoping period starts with the publication of this notice and ends on March 1, 2010. Western will consider all comments on the scope of the EIS received or postmarked by that date. The public is invited to submit comments on the proposed Project at any time during the EIS process.

ADDRESSES: Western will host public scoping meetings at Little America Hotel, 2800 West Lincolnway, Cheyenne, Wyoming; and at Hilton Garden Inn and UW Conference Center, 2229 East Grand Avenue, Laramie, Wyoming, to provide information on the Project and gather comments on the proposal. Oral or written comments may be provided at the public scoping meetings or mailed or e-mailed to Mark Wieringa, NEPA Document Manager, Corporate Services Office, Western Area Power Administration, P.O. Box 281213, Lakewood, CO 80228-8213, e-mail wieringa@wapa.gov, telephone (800) 336-7288.

FOR FURTHER INFORMATION CONTACT: For additional information on the proposed Project, the EIS process, or to receive a copy of the Draft EIS when it is published, contact Mark Wieringa at the addresses above. For general information on the DOE's NEPA review process, contact Carol M. Borgstrom, Director, Office of NEPA Policy and Compliance, GC-54, U.S. Department of Energy, 1000 Independence Avenue, SW., Washington, DC 20585-0119, telephone (202) 586-4600 or (800) 472-2756, facsimile (202) 586-7031.

SUPPLEMENTARY INFORMATION: Western is a Federal power marketing agency within the DOE that markets and delivers Federal wholesale electric power (principally hydroelectric power) to municipalities, rural electric cooperatives, public utilities, irrigation districts, Federal and State agencies, and Native American tribes in 15 western and central States. The proposed Project would be located within Western's Rocky Mountain Region, which operates in Colorado, most of Wyoming, and portions of Nebraska, Kansas, Utah, and New Mexico. SWE applied to interconnect their proposed 300-MW Project with Western's existing Craig—Ault 345-kV transmission line in Albany County, Wyoming. The proposed Project would be located on private and State lands; no federally-managed land would be affected. There are no designated cooperating agencies at this time, but cooperating agencies could be identified at a later date.

Western will prepare an EIS on the interconnection of the proposed Project in accordance with NEPA (42 U.S.C. 4321 et seq.); DOE NEPA Implementing Procedures (10 CFR part 1021), and the CEQ regulations for implementing NEPA (40 CFR parts 1500-1508).¹

¹ On October 4, 1999, DOE's Assistant Secretary for Environmental, Safety and Health delegated to Western's Administrator the authority to approve EISs for integrating transmission facilities with Western's transmission grid.

Purpose and Need for Agency Action

Western's need for agency action is precipitated by SWE's application to interconnect with Western's power transmission system. Western needs to consider SWE's interconnection request under Western's Tariff, which provides for open access to its transmission system through an interconnection if there is available capacity in the transmission system. This EIS will address Western's Federal action of constructing an interconnection facility on the existing Craig—Ault transmission line, and making necessary system modifications to accommodate the interconnection of SWE's proposed Project. Preliminary studies indicate that the power system can accommodate the proposed interconnection without negatively affecting system reliability or power deliveries to existing customers. The transmission system may require network and/or transmission system upgrades as determined in the final studies.

Proposed Action

Subject to compliance with the provisions of the Tariff, Western proposes to approve SWE's interconnection request and construct an interconnection facility on the Craig—Ault transmission line. By taking this action, power generated by the proposed Project would use Western's transmission system to reach the market.

Alternatives

Western will evaluate location options for the interconnection facility in the vicinity of the proposed Project along the existing Craig—Ault transmission line. Under the no action alternative, Western would not approve the interconnection request, nor construct the interconnection facility.

Applicant's Proposed Project

SWE's proposed Project would consist of up to 200 wind turbine generators with a combined total generating capacity of up to 300 MW, located within an 11,125-acre site in southeast Albany County, near the towns of Hermosa and Tie Siding. The turbines would be located in 11 north-south oriented strings of varying lengths, with the strings being approximately one-half mile apart. In addition to the turbines, other proposed Project facilities would include all-weather access roads to each turbine location; underground power collection lines linking turbines to the Project Substation; the Project Substation; a short high-voltage transmission line linking the Project Substation to Western's transmission system; operation and maintenance facilities and yard; Supervisory Control and Data Acquisition equipment and metering equipment; and a permanent meteorological tower. The proposed Project Substation would likely be co-located with Western's interconnection facility.

While Western's Federal action is to consider the interconnection request and the physical interconnection to Western's existing transmission system, the EIS will also identify and review the environmental impacts of SWE's proposed Project. SWE will complete necessary coordination with State and local agencies to permit their proposed Project.

Floodplain or Wetland Involvement

Since the proposed Project may involve action in floodplains or wetlands, this NOI also serves as a notice of proposed floodplain or wetland action. The EIS will include a floodplain/wetland assessment and floodplain/wetland statement of findings following DOE regulations for compliance with floodplain and wetlands environmental review (10 CFR part 1022).

Environmental Issues

The location of the proposed Project is in a sparsely populated portion of southeastern Wyoming. Available overview information indicates this area has a relatively low probability of substantial natural resources conflicts. SWE's siting process for the wind turbine strings and associated facilities considered sensitive resources, and the proposed Project was designed to avoid these areas. The EIS will evaluate the level of impact Western's proposed action and SWE's proposed Project would have on environmental resources within the 11,125-acre site, which may lead to minor modifications in the proposed Project to further avoid or minimize resource impacts. While no substantive resource conflicts have been identified thus far, the EIS will analyze the potential impacts on potentially affected environmental resources. Wind farm projects are generally known to have visual and noise effects, and may affect birds and bats.

Public Participation

Interested parties are invited to participate in the scoping process to help define the important resources and issues to be analyzed in depth, and to eliminate from detailed study issues that are not pertinent. The scoping process will involve all interested agencies (Federal, State, county, and local), Native American tribes, public interest groups, businesses, affected landowners, and individual members of the public.

Western will consult with affected tribes to jointly evaluate and address the potential effects on cultural resources, traditional cultural properties, or other resources important to the tribes. These consultations will be conducted in accordance with Executive Order 13175, Consultation and Coordination with Indian Tribal Governments (65 FR 67249), the President's memorandum of April 29, 1994, Government-to-Government Relations with Native American Tribal Governments (59 FR 22951), DOE-specific guidance on tribal interactions, and applicable natural and cultural resources laws and regulations.

Public scoping meetings will be held as described under DATES and ADDRESSES above. The meetings will be informal, and attendees will be able to speak directly with Western and SWE representatives about the proposed Project. The public is encouraged to provide information and comments on issues it believes Western should address in the EIS. Comments may be broad in nature or restricted to specific areas of concern. After gathering comments on the scope of the EIS, Western will address issues raised in the EIS. Comments on Western's proposed action and SWE's proposed Project will be accepted at any time during the EIS process, and may be directed to Western as described under ADDRESSES above.

Western's EIS process will include the public scoping meetings; consultation and coordination with appropriate Federal, State, county, and local agencies and tribal governments; involvement with affected landowners; distribution of and public review and comment on the Draft EIS; a formal public hearing or hearings on the Draft EIS; distribution of a published Final EIS; and publication of Western's Record of Decision in the Federal Register.

Dated: January 6, 2010.
Timothy J. Meeks,
Administrator.

[FR Doc. 2010-569 Filed 1-13-10; 8:45 am]

BILLING CODE 6450-01-P